DEPARTMENT OF COMMERCE

National Oceanic and Atmospheric Administration

[I.D. 091301A]

North Pacific Fishery Management Council; Public Meetings

AGENCY: National Marine Fisheries Service (NMFS), National Oceanic and Atmospheric Administration (NOAA), Commerce.

ACTION: Notice of public meetings.

SUMMARY: The North Pacific Fishery Management Council (Council) and its advisory committees will hold public meetings on October 1-8, 2001, in Seattle, WA. All meetings are open to the public except executive sessions which may be held during the week at which the Council may discuss personnel issues and/or current litigation.

DATES: The Council’s Advisory Panel will begin at 8 a.m., Monday, October 1, 2001, and continue through Friday, October 5, 2001. The Scientific and Statistical Committee (SSC) will begin at 8 a.m. on Monday, October 1, 2001, and continue through Wednesday, October 3, 2001. The Council will begin their plenary session at 8 a.m. on Wednesday, October 3, 2001, continuing through Monday, October 8, 2001.

ADDRESSES: All meetings will be held at the Doubletree Hotel, 18740 Pacific Highway South, Seattle, WA.

Council address: North Pacific Fishery Management Council, 605 W. 4th Ave., Suite 306, Anchorage, AK 99501-2252.

FOR FURTHER INFORMATION CONTACT: Council staff, Phone: 907-271-2809.

SUPPLEMENTARY INFORMATION: Council: The agenda for the Council’s plenary session will include the following issues. The Council may take appropriate action on any of the issues identified.

1. Reports:

(a) Executive Director's Report.

(b) State Fisheries Report by Alaska Department of Fish and Game.

(c) NMFS Management Report.

(d) Enforcement and Surveillance reports by NMFS and the U.S. Coast Guard.

2. Halibut Charter Individual Fishery Quota (IFQ) Program: The Council will review previous action approving an IFQ program and consider further action as necessary.

3. Steller sea lion (SSL) measures:

(a) Receive final report from independent review team.

(b) Take final action on management measures for the protection of SSL for 2002 and beyond.

4. Seabird Avoidance Measures

(a) Review research results from Washington Sea Grant.

(b) Final action on revisions to regulations for seabird avoidance measures in the groundfish fisheries, if necessary analyses are available.

5. American Fisheries Act (AFA):

(a) Review Environmental Impact Statement and proposed rulemaking for 2002; provide comments as appropriate.

(b) Final comments on Report to Congress.

(c) Review discussion paper on AFA status and possible extension of current regulations.

(d) Review status of other AFA-related amendments and contracts.

6. Draft Groundfish Programmatic Supplemental Environmental Impact Statement (SEIS): Receive status report.

7. Essential Fish Habitat (EFH) Environmental Impact Statement:

(a) Receive scoping summary and EFH Committee report.

(b) Review final guidelines from the North Pacific Fishery Management Council.

8. Community Development Quota (CDQ) Program:

(a) Initial review of regulatory amendments for Halibut Areas 4D/4E.

(b) Initial review of analysis for amendments to the CDQ groundfish regulations.

9. Groundfish Management:

(a) Review of Stock Assessment and Fishery Evaluation (SAFE) documents for Bering Sea/Aleutian Islands (BSAI) and Gulf of Alaska (GOA) groundfish fisheries for 2002.

(b) Approve preliminary groundfish harvest specifications for the 2002 groundfish fisheries, including prohibited species catch limits.

10. Crab Management:

(a) Review the SAFE document for BSAI King and Tanner crab fisheries.

(b) Receive report from the Crab Plan Team.

11. Staff Tasking: Review current staff tasking and projects to be tasked; provide direction to staff.

Advisory Meetings

Advisory Panel: The agenda for the Advisory Panel will mirror that of the Council listed above, with the exception of the reports under Item 1 and the Halibut Charter IFQ issue (Item 2).

Scientific and Statistical Committee: The Scientific and Statistical Committee will address the following issues:

1. Steller sea lion measures listed under Item 3 of the Council agenda noted above.

2. Seabird avoidance measures (Item 4 on the Council agenda).

3. Groundfish Programmatic SEIS (Item 6 on the Council agenda).

4. SAFE documents for BSAI and GOA groundfish fisheries (Item 9 on the Council agenda).

5. Crab Management SAFE (Item 10 on the Council agenda). Other committees and workgroups may hold impromptu meetings throughout the meeting week. Such meetings will be announced during regularly-scheduled meetings of the Council, Advisory Panel, and SSC, and will be posted at the hotel.

Although non-emergency issues not contained in this agenda may come before this Council for discussion, in accordance with the Magnuson-Stevens Fishery Conservation and Management Act, those issues may not be the subject of formal Council action during this meeting. Action will be restricted to those issues specifically listed in this notice and any issue arising after publication of this notice that require emergency action under section 305(c) of the Magnuson Stevens Fishery Conservation and Management Act, provided the public has been notified of the Council’s intent to take final action to address the emergency.

Special Accommodations

These meetings are physically accessible to people with disabilities. Requests for sign language interpretation or other auxiliary aids should be directed to Helen Allen at 907-271-2809 at least 7 working days prior to the meeting date.

Dated: September 13, 2001.
Richard W. Surdi,
Acting Director, Office of Sustainable Fisheries, National Marine Fisheries Service.

[FR Doc. 01-23252 Filed 9-17-01; 8:45 am]

BILLING CODE 3510-22-S